DEPARTMENT OF ENERGY

Federal Energy Regulatory Commission

[Docket Nos. RP04-12-007 and RP00-387-007]

Florida Gas Transmission Company; Notice of Refund Report

June 16, 2005.

Take notice that on May 12, 2005, Florida Gas Transmission Company (FGT) tendered for filing a refund report reflecting amounts refunded to Okaloosa Gas District on April 13, 2005 pursuant to Article III, sections 3 and 4, of the stipulation and agreement of settlement in the above-referenced dockets filed on August 13, 2004 and approved by Commission order dated December 21 2004.

FGT states that copies of its filing is being served to all parties on the service list.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Protest Date: 5 p.m. Eastern Time on June 23, 2005.

Magalie R. Salas,
Secretary.

[FR Doc. E5-3242 Filed 6-21-05; 8:45 am]

BILLING CODE 6717-01-P